DEPARTMENT OF THE INTERIOR

Bureau of Land Management

[LLCA9300000;L14300000;EU0000;CACA 53961]

Notice of Realty Action, Segregation Terminated, Direct Sale of Public Land in San Bernardino County, CA

AGENCY: Bureau of Land Management, Interior.

ACTION: Notice.

SUMMARY: The Bureau of Land Management (BLM), Needles Field Office, proposes to sell a parcel of public land totaling approximately 133.19 acres in San Bernardino County, California. The public land would be sold to the California Department of Transportation for the appraised fair market value of $55,000.

DATES: Comments regarding the proposed sale must be received by the BLM on or before July 15, 2013.

ADDRESSES: Written comments concerning the proposed sale should be sent to the Field Manager, BLM, Needles Field Office, 1303 S. U.S. Highway 95, Needles, CA 92363.

FOR FURTHER INFORMATION CONTACT: George R. Meckfessel, Planning and Environmental Coordinator, BLM Needles Field Office, telephone 760-326-7008; address 1303 S. U.S. Highway 95, Needles, California 92363. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following public land is proposed for direct sale in accordance with Sections 203 and 209 of the Federal Land Policy and Management Act of 1976 (FLPMA), as amended (43 U.S.C. 1713 and 1719).

San Bernardino Meridian,

T. 16 N., R. 14 E.,

Sec. 11, lot 1;

Sec. 12, lots 2, 4, 6, 9, 11, and 14;

Sec. 13, lot 2;

Sec. 14, lots 1, 4, 7, 11, and 12;

Sec. 23, lots 3, 6, 9, and 11.

The area described contains 133.19 acres in San Bernardino County, and is proposed for sale to the State of California, Department of Transportation, for the appraised fair market value of $55,000. The California Department of Transportation wishes to purchase the public land described above for construction of a facility to inspect agricultural products and commercial vehicles entering California. The BLM has determined that the sale of the land for this purpose would serve an important public objective which cannot be achieved prudently or feasibly on other lands. The BLM has concluded that a competitive sale is not appropriate and that the public interest would best be served by a direct sale to the California Department of Transportation. A portion of the public land described above was not identified for sale in the 1980 California Desert Conservation Area Plan, as amended, and a plan amendment is required to sell the land. The BLM has released a proposed plan amendment and environmental assessment that identifies the land as suitable for sale pursuant to Section 203 of FLPMA. Information on the proposed plan amendment is available at the location identified in ADDRESSES above. The BLM has completed a mineral potential report that concluded that there are no known mineral values in the land proposed for sale and the BLM is proposing to convey all mineral interests. Conveyance of all Federal mineral interests would occur simultaneously with the sale of the land. The purchaser would be required to pay a $50 nonrefundable filing fee for processing the conveyance of the mineral interests. The BLM previously segregated the above described land from appropriation under the public land laws and the general mining laws in a Notice published in the Federal Register on February 10, 2010 (75 FR 6702). This previous segregation will terminate on May 31, 2013 and be replaced with a segregation which would allow sale of the land as described in the next section.

On May 31, 2013, the above described land will be segregated from all forms of appropriation under the public land laws, including the mining laws, except for the sale provisions of the FLPMA. Until completion of the sale, the BLM will no longer accept land use applications affecting the identified public lands, except applications for the amendment of previously filed right-of-way applications or existing authorizations to increase the term of the grants in accordance with 43 CFR 2802.15 and 2886.15. The segregation terminates upon issuance of a patent, publication in the Federal Register of a termination of the segregation, or on June 1, 2015, unless extended by the BLM State Director in accordance with 43 CFR 2711.1-2(d) prior to the termination date. The land would not be sold until at least July 30, 2013. Any conveyance document issued would contain the following terms, conditions, and reservations:

1. A reservation of a right-of-way (ROW) to the United States for ditches and canals constructed by authority of the United States under the Act of August 30, 1890 (43 U.S.C 945).

2. Subject to a ROW for a buried fiber optic cable issued to U.S. Sprint Communications under serial number CACA 20105.

3. Subject to a ROW for a buried fiber optic cable issued to AT&T under serial number CACA 21604.

4. A condition that the conveyance be subject to all valid existing rights of record.

5. An appropriate indemnification clause protecting the United States from claims arising out of the patentee's use, occupancy, or operations on the patented lands.

6. Additional terms and conditions that the authorized officer deems appropriate.

Detailed information concerning the proposed sale including the appraisal, planning and environmental documents, and mineral report are available for review at the location identified in ADDRESSES above.

Public comments regarding the proposed sale may be submitted in writing to the attention of the BLM Needles Field Manager (see ADDRESSES above) on or before July 15, 2013. Comments received in electronic form, such as email will not be considered. Any adverse comments regarding the proposed sale will be reviewed by the BLM State Director or other authorized official of the Department of the Interior, who may sustain, vacate, or modify this realty action in whole or in part. In the absence of timely filed objections, this realty action will become the final determination of the Department of the Interior.

Before including your address, phone number, email address, or other personal identifying information in your comment, you should be aware that your entire comment—including your personal identifying information—may be made publicly available at any time. While you can ask us in your comment to withhold your personal identifying information from public review, we cannot guarantee that we will be able to do so.

Authority: 43 CFR 2711.1-2(a) and (c)

Cynthia Staszak,
Associate Deputy State Director, Resources California.

[FR Doc. 2013-12674 Filed 5-30-13; 8:45 am]

BILLING CODE 4310-40-P